DEPARTMENT OF HEALTH AND HUMAN SERVICES

Centers for Disease Control and Prevention

Disease, Disability and Injury Prevention and Control Special Emphasis Panel: Human Immunodeficiency Virus Prevention Projects for Community-Based Organizations, Program Announcement #00023

In accordance with section 10(a)(2) of the Federal Advisory Committee Act (Pub. L. 92-463), the Centers for Disease Control and Prevention (CDC) announces the following meeting.

Name: Disease, Disability and Injury Prevention and Control Special Emphasis Panel: Human Immunodeficiency Virus Prevention Projects for Community-Based Organizations, Program Announcement #00023.

Times and Dates: 9 a.m.-9:15 a.m., April 14, 2000 (Open); 9:15 a.m.-12 p.m., April 14, 2000 (Closed).

Place: This meeting will be conducted in two separate, simultaneous conference call sessions. To participate, please dial 1-800-713-1971 and when prompted, enter participant code #848941, and 1-800-713-1971 and when prompted, enter participant code #868508. The call will only be open to the public for the first fifteen minutes, after which the review process will begin.

Status: Portions of the meeting will be closed to the public in accordance with provisions set forth in section 552b(c)(4) and (6), Title 5 U.S.C., and the Determination of the Associate Director for Management and Operations, CDC, pursuant to Public Law 92-463.

Matters To Be Discussed: The meeting will include the review, discussion, and evaluation of five applications received in response to Program Announcement #00023. These five applications were originally deemed ineligible, however, after careful reconsideration, it was determined that they should be given the same consideration as applications reviewed during the original SEP meeting that took place March 20-24, 2000.

Contact Person for More Information: Megan Foley or Beth Wolfe, Prevention Support Office, National Center for HIV, STD, and TB Prevention, CDC, Corporate Square Office Park, 11 Corporate Square Boulevard, M/S E07, Atlanta, Georgia 30329, telephone 404/639-8025, e-mail MZF3@cdc.gov or EOW1@cdc.gov.

This notice is being published less than 15 days in advance of the meeting due to administrative oversight and program delays. The Director, Management Analysis and Services Office, has been delegated the authority to sign Federal Register Notices pertaining to announcements of meetings and other committee management activities, for both the Centers for Disease Control and Prevention and the Agency for Toxic Substances and Disease Registry.

Dated: April 12, 2000.
Carolyn J. Russell,
Director, Management Analysis and Services Office, Centers for Disease Control and Prevention (CDC).

[FR Doc. 00-9608 Filed 4-13-00; 11:52 am]

BILLING CODE 4163-18-P